DEPARTMENT OF THE INTERIOR

Bureau of Indian Affairs

[178A2100DD/AAKC001030/A0A501010.999900 253G]

Indian Gaming; Approval of Amendment to Tribal-State Class III Gaming Compact in the State of Oregon

AGENCY: Bureau of Indian Affairs, Interior.

ACTION: Notice.

SUMMARY: The Coquille Indian Tribe and State of Oregon entered into an amendment to an existing Tribal-State compact governing Class III gaming. This notice announces approval of the amendment.

DATES: Effective October 31, 2016.

FOR FURTHER INFORMATION CONTACT: Ms. Paula L. Hart, Director, Office of Indian Gaming, Office of the Assistant Secretary—Indian Affairs, Washington, DC 20240, (202) 219-4066.

SUPPLEMENTARY INFORMATION: Section 11 of the Indian Gaming Regulatory Act (IGRA) requires the Secretary of the Interior to publish in the Federal Register notice of approved Tribal-State compacts that are for the purpose of engaging in Class III gaming activities on Indian lands. See Public Law 100-497, 25 U.S.C. 2701 et seq. All Tribal-State Class III compacts, including amendments, are subject to review and approval by the Secretary under 25 CFR 293.4. The amendment expands on the Coquille Tribal Gaming Commission's criteria for denial or termination of contracts for vendors based on the nature and severity of the conduct that constituted the offense or crime, the time that has passed since satisfactory completion of sentence, probation, or payment of fine imposed, the number of offenses or crimes, and any extenuating circumstances that enhance or reduce the impact of the crime. The amendment is approved. See 25 U.S.C. 2710(d)(8)(A).

Dated: October 21, 2016.
Lawrence S. Roberts,
Principal Deputy Assistant Secretary—Indian Affairs.

[FR Doc. 2016-26252 Filed 10-28-16; 8:45 am]

BILLING CODE 4337-15-P